NATIONAL FOUNDATION ON THE ARTS AND THE HUMANITIES

National Endowment for the Arts; President's Committee on the Arts and the Humanities: Meeting #56

Pursuant to Section 10 (a)(2) of the Federal Advisory Committee Act (Public Law 92-463), as amended, notice is hereby given that a meeting of the President's Committee on the Arts and the Humanities (PCAH) will be held on Monday, October 11, 2004, from 9 a.m. to approximately 1 p.m. The meeting will be held at the Nasher Sculpture Center, Nasher Hall, 2001 Flora Street, Dallas, TX 75201.

The Committee meeting will begin at 9 a.m. with a welcome, introductions and reports on recent Committee activities. This will be followed by a presentation by John Nau, II, Chairman of the Advisory Council on Historic Preservation. The meeting will include reports, presented by agency representatives, from the National Endowment for the Humanities, the Institute of Museum and Library Services, and the National Endowment for the Arts. The remainder of the meeting will focus on discussion of current activities in the area of Youth Arts and Humanities Learning, including presentations by PCAH members James Farmer and William Strickland and Giselle Antoni, Director of Big Thought (Formerly Youth Audiences of North Texas). The meeting will adjourn after discussion of other business, as necessary, and closing remarks.

The President's Committee on the Arts and the Humanities was created by Executive Order in 1982 to advise the President, the two Endowments, and the Institute of Museum and Library Services on measures to encourage private sector support for the nation's cultural institutions and to promote public understanding of the arts and the humanities.

Any interested persons may attend as observers, on a space available basis, but seating is limited. Therefore, for this meeting, individuals wishing to attend must contact Georgiana Paul of the President's Committee seven days in advance at (202) 682-5409 or write to the Committee at 1100 Pennsylvania Avenue, NW., Suite 526, Washington, DC 20506. Further information with reference to this meeting can also be obtained from Ms. Paul.

If you need special accommodations due to a disability, please contact Ms. Paul through the Office of AccessAbility, National Endowment for the Arts, 1100 Pennsylvania Avenue, NW., Washington, DC 20506, 202/682-5532, TDY-TDD 202/682-5496, at least seven (7) days prior to the meeting.

Dated: September 21, 2004.
Kathy Plowitz-Worden,
Panel Coordinator, Panel Operations, National Endowment for the Arts.

[FR Doc. 04-21555 Filed 9-24-04; 8:45 am]

BILLING CODE 7537-01-P